DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of projected regulations, existing regulations, and completed actions of the Department of Homeland Security (DHS) and its components. This agenda provides the public with information about DHS's regulatory and deregulatory activity. DHS expects that this information will enable the public to be more aware of, and effectively participate in, the Department's regulatory and deregulatory activity. DHS invites the public to submit comments on any aspect of this agenda.

FOR FURTHER INFORMATION CONTACT:

General

Please direct general comments and inquiries on the agenda to the Regulatory Affairs Law Division, Office of the General Counsel, U.S. Department of Homeland Security, 2707 Martin Luther King Jr. Avenue SE, Mail Stop 0485, Washington, DC 20528-0485.

Specific

Please direct specific comments and inquiries on individual actions identified in this agenda to the individual listed in the summary portion as the point of contact for that action.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011) and Executive Order 13771 “Reducing Regulation and Controlling Regulatory Costs” (Jan. 30, 2017), which require the Department to publish a semiannual agenda of regulations. The regulatory agenda is a summary of existing and projected regulations as well as actions completed since the publication of the last regulatory agenda for the Department. DHS's last semiannual regulatory agenda was published on December 26, 2019, at 84 FR 71142.

Beginning in fall 2007, the internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the internet.

The semiannual agenda of the Department conforms to the Unified Agenda format developed by the Regulatory Information Service Center.

Dated: March 3, 2020.
Christina E. McDonald,
Associate General Counsel for Regulatory Affairs.

Office of the Secretary—Long-Term Actions
Sequence No. | Title | Regulation Identifier No.
116 | Homeland Security Acquisition Regulation, Enhancement of Whistleblower Protections for Contractor Employees | 1601-AA72
117 | Homeland Security Acquisition Regulation: Safeguarding of Controlled Unclassified Sensitive Information (HSAR Case 2015-001) | 1601-AA76
118 | Homeland Security Acquisition Regulation: Information Technology Security Awareness Training (HSAR Case 2015-002) | 1601-AA78
119 | Homeland Security Acquisition Regulation: Privacy Training (HSAR Case 2015-003) | 1601-AA79

U.S. Citizenship and Immigration Services—Proposed Rule Stage
Sequence No. | Title | Regulation Identifier No.
120 | Collection and Use of Biometrics by U.S. Citizenship and Immigration Services | 1615-AC14
121 | Removing H-4 Dependent Spouses From the Classes of Aliens Eligible for Employment Authorization | 1615-AC15
122 | Short-Term Non-Emergency Extension for E-Verify Employers in the H-2A Program | 1615-AC51

U.S. Citizenship and Immigration Services—Final Rule Stage
Sequence No. | Title | Regulation Identifier No.
123 | Removal of International Entrepreneur Parole Program | 1615-AC04
124 | U.S. Citizenship and Immigration Services Fee Schedule and Changes to Certain Other Immigration Benefit Request Requirements | 1615-AC18
125 | Removal of 30-Day Processing Provision for Asylum Applicant-Related Form I-765 Employment Authorization Applications | 1615-AC19
126 | Asylum Application, Interview, and Employment Authorization for Applicants | 1615-AC27

U.S. Citizenship and Immigration Services—Long-Term Actions
Sequence No. | Title | Regulation Identifier No.
127 | Requirements for Filing Motions and Administrative Appeals | 1615-AB98
128 | EB-5 Immigrant Investor Regional Center Program | 1615-AC11
129 | Electronic Processing of USCIS Immigration Benefit Requests | 1615-AC20

U.S. Coast Guard—Proposed Rule Stage
Sequence No. | Title | Regulation Identifier No.
130 | Financial Responsibility—Vessels; Superseded Pollution Funds (USCG-2017-0788) | 1625-AC39

U.S. Coast Guard—Long-Term Actions
Sequence No. | Title | Regulation Identifier No.
131 | Commercial Fishing Vessels—Implementation of 2010 and 2012 Legislation | 1625-AB85

U.S. Customs and Border Protection—Long-Term Actions
Sequence No. | Title | Regulation Identifier No.
132 | Importer Security Filing and Additional Carrier Requirements (Section 610 Review) | 1651-AA70
133 | Implementation of the Guam-CNMI Visa Waiver Program (Section 610 Review) | 1651-AA77

Transportation Security Administration—Completed Actions
Sequence No. | Title | Regulation Identifier No.
134 | Security Training for Surface Transportation Employees | 1652-AA55

U.S. Immigration and Customs Enforcement—Proposed Rule Stage
Sequence No. | Title | Regulation Identifier No.
135 | Visa Security Program Fee | 1653-AA77
136 | Establishing a Fixed Time Period of Admission and an Extension of Stay Procedure for Nonimmigrant Academic Students, Exchange Visitors, and Representatives of Foreign Information Media | 1653-AA78
137 | Adjusting Program Fees for the Student and Exchange Visitor Program | 1653-AA81

U.S. Immigration and Customs Enforcement—Final Rule Stage
Sequence No. | Title | Regulation Identifier No.
138 | Procedures and Standards for Declining Surety Immigration Bonds and Administrative Appeal Requirement for Breaches | 1653-AA67

Cybersecurity and Infrastructure Security Agency—Long-Term Actions
Sequence No. | Title | Regulation Identifier No.
139 | Ammonium Nitrate Security Program | 1670-AA00
140 | Chemical Facility Anti-Terrorism Standards (CFATS) | 1670-AA01

DEPARTMENT OF HOMELAND SECURITY (DHS)

Office of the Secretary (OS)

Long-Term Actions

116. Homeland Security Acquisition Regulation, Enhancement of Whistleblower Protections for Contractor Employees

E.O. 13771 Designation: Other.

Legal Authority: Sec. 827 of the National Defense Authorization Act (NDAA) for Fiscal Year 2013, (Pub. L. 112-239, enacted January 2, 2013); 41 U.S.C. 1302(a)(2) and 1707

Abstract: The Department of Homeland Security (DHS) is proposing to amend its Homeland Security Acquisition Regulation (HSAR) parts 3003 and 3052 to implement section 827 of the National Defense Authorization Act (NDAA) for Fiscal Year (FY) 2013 (Pub. L. 112-239, enacted January 2, 2013) for the United States Coast Guard (USCG). Section 827 of the NDAA for FY 2013 established enhancements to the Whistleblower Protections for Contractor Employees for all agencies subject to section 2409 of title 10, United States Code, which includes the USCG.

Timetable:

Action | Date | FR Cite
NPRM | To Be Determined

Regulatory Flexibility Analysis Required: Yes.

Agency Contact: Nancy Harvey, Policy Analyst, Department of Homeland Security, Office of the Chief Procurement Officer, Room 3636-15, 301 7th Street SW, Washington, DC 20528, Phone: 202 447-0956, Email: nancy.harvey@hq.dhs.gov.

RIN: 1601-AA72

117. Homeland Security Acquisition Regulation: Safeguarding of Controlled Unclassified Sensitive Information (HSAR Case 2015-001)

E.O. 13771 Designation: Fully or Partially Exempt.

Legal Authority: 5 U.S.C. 301 to 302; 41 U.S.C. 1302, 1303 and 1707

Abstract: This Homeland Security Acquisition Regulation (HSAR) rule would implement security and privacy measures to ensure Controlled Unclassified Information (CUI), such as Personally Identifiable Information (PII), is adequately safeguarded by DHS contractors. Specifically, the rule would define key terms, outline security requirements and inspection provisions for contractor information technology (IT) systems that store, process or transmit CUI, institute incident notification and response procedures, and identify post-incident credit monitoring requirements.

Timetable:

Action | Date | FR Cite
NPRM | 01/19/17 | 82 FR 6429
NPRM Comment Period End | 03/20/17
NPRM Comment Period Extended | 03/20/17 | 82 FR 14341
NPRM Comment Period Extended End | 04/19/17
Final Rule | To Be Determined

Regulatory Flexibility Analysis Required: Yes.

Agency Contact: Shaundra Duggans, Procurement Analyst, Department of Homeland Security, Office of the Chief Procurement Officer, Acquisition Policy and Legislation, 245 Murray Lane SW, Washington, DC 20528, Phone: 202 447-0056, Email: shaundra.duggans@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA76

118. Homeland Security Acquisition Regulation: Information Technology Security Awareness Training (HSAR Case 2015-002)

E.O. 13771 Designation: Fully or Partially Exempt.

Legal Authority: 5 U.S.C. 301 and 302; 41 U.S.C. 1707, 1302 and 1303

Abstract: This Homeland Security Acquisition Regulation (HSAR) rule would standardize information technology security awareness training and DHS Rules of Behavior requirements for contractor and subcontractor employees who access DHS information systems and information resources or contractor-owned and/or operated information systems and information resources capable of collecting, processing, storing, or transmitting controlled unclassified information (CUI).

Timetable:

Action | Date | FR Cite
NPRM | 01/19/17 | 82 FR 6446
NPRM Comment Period End | 03/20/17
NPRM Comment Period Extended | 03/20/17 | 82 FR 14341
NPRM Comment Period Extended End | 04/19/17
Final Rule | To Be Determined

Regulatory Flexibility Analysis Required: Yes.

Agency Contact: Shaundra Duggans, Procurement Analyst, Department of Homeland Security, Office of the Chief Procurement Officer, Acquisition Policy and Legislation, 245 Murray Lane SW, Washington, DC 20528, Phone: 202 447-0056, Email: shaundra.duggans@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA78

119. Homeland Security Acquisition Regulation: Privacy Training (HSAR Case 2015-003)

E.O. 13771 Designation: Fully or Partially Exempt.

Legal Authority: 5 U.S.C. 301 and 302; 41 U.S.C. 1303, 1702 and 1707

Abstract: This Homeland Security Acquisition Regulation (HSAR) rule would require contractors to complete training that addresses the protection of privacy, in accordance with the Privacy Act of 1974, and the handling and safeguarding of Personally Identifiable Information and Sensitive Personally Identifiable Information.

Timetable:

Action | Date | FR Cite
NPRM | 01/19/17 | 82 FR 6425
NPRM Comment Period End | 03/20/17
NPRM Comment Period Extended | 03/20/17 | 82 FR 14341
NPRM Comment Period Extended End | 04/19/17
Final Rule | To Be Determined

Regulatory Flexibility Analysis Required: Yes.

Agency Contact: Candace Lightfoot, Procurement Analyst, Department of Homeland Security, Office of the Chief Procurement Officer, Acquisition Policy and Legislation, Room 3636-15, 301 7th Street SW, Washington, DC 20528, Phone: 202 447-0082, Email: candace.lightfoot@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA79

DEPARTMENT OF HOMELAND SECURITY (DHS)

U.S. Citizenship and Immigration Services (USCIS)

Proposed Rule Stage

120. Collection and Use of Biometrics by U.S. Citizenship and Immigration Services

E.O. 13771 Designation: Other.

Legal Authority: 8 U.S.C. 1103(a); 8. U.S.C. 1444 to 1446; 8 U.S.C. 1365a and 1365b; 8 U.S.C. 1304(a); Pub. L. 107-56; Pub. L. 107-173; Pub. L. 109-248, sec. 402(a) and 402(b)

Abstract: The Department of Homeland Security (DHS) will propose to update its regulations to eliminate multiple references to specific biometric types, and to allow for the expansion of the types of biometrics required to establish and verify an identity. DHS will also propose to modify age restrictions where they exist to detect, deter, or prevent human trafficking of children; establish consistent identity enrollment and verification policies and processes; and align U.S. Citizenship and Immigration Services (USCIS) biometric collection with other immigration operations. The DHS proposal will provide a definition to the public on the term biometric and how biometrics will be used in the immigration process.

Timetable:

Action | Date | FR Cite
NPRM | 07/00/20

Regulatory Flexibility Analysis Required: Yes.

Agency Contact: Michael J. McDermott, Acting Division Chief, Security and Public Safety Division, Office of Policy and Strategy, Department of Homeland Security, U.S. Citizenship and Immigration Services, 20 Massachusetts Avenue NW, Suite 2304, Washington, DC 20529, Phone: 202 272-8377, Fax: 202 272-1480.

RIN: 1615-AC14

121. Removing H-4 Dependent Spouses From the Classes of Aliens Eligible for Employment Authorization

E.O. 13771 Designation: Other.

Legal Authority: 6 U.S.C. 112; 8 U.S.C. 1103(a), 1184(a)(1) and 1324a(H)(3)(B)

Abstract: On February 25, 2015, DHS published a final rule that amended DHS regulations to extend eligibility for employment authorization to certain H-4 dependent spouses of H-1B nonimmigrant workers who are seeking employment-based lawful permanent resident (LPR) status. DHS is publishing this notice of proposed rulemaking to propose to remove from its regulations this class of aliens for eligibility for employment authorization.

Timetable:

Action | Date | FR Cite
NPRM | 09/00/20

Regulatory Flexibility Analysis Required: Yes.

Agency Contact: Charles Locky Nimick, Chief, Business and Foreign Workers Division, Office of Policy and Strategy, Department of Homeland Security, U.S. Citizenship and Immigration Services, 20 Massachusetts Avenue NW, Suite 1100, Washington, DC 20529-2090, Phone: 202 272-8377, Fax: 202 272-1480.

RIN: 1615-AC15

122. • Short-Term Non-Emergency Extension for E-Verify Employers in the H-2A Program

E.O. 13771 Designation: Regulatory.

Legal Authority: Pub. L. 107-296, sec. 116; 6 U.S.C. 112; 8 U.S.C. 1103(a), 1184(a)(1), and 1324a(h)(3)(B)

Abstract: The Department of Homeland Security proposes to amend its regulations regarding short-term extensions for U.S. employers seeking temporary or seasonal agricultural nonimmigrant workers in the H-2A program to provide a short-term non-emergency extension of the H-2A petition validity period by up to 14 days to U.S. employers who are participants in good standing in E-Verify.

Timetable:

Action | Date | FR Cite
NPRM | 08/00/20

Regulatory Flexibility Analysis Required: Yes.

Agency Contact: Charles Locky Nimick, Chief, Business and Foreign Workers Division, Office of Policy and Strategy, Department of Homeland Security, U.S. Citizenship and Immigration Services, 20 Massachusetts Avenue NW, Suite 1100, Washington, DC 20529-2090, Phone: 202 272-8377, Fax: 202 272-1480.

RIN: 1615-AC51

DEPARTMENT OF HOMELAND SECURITY (DHS)

U.S. Citizenship and Immigration Services (USCIS)

Final Rule Stage

123. Removal of International Entrepreneur Parole Program

E.O. 13771 Designation: Regulatory.

Legal Authority: 8 U.S.C. 1182(d)(5)(A)

Abstract: On January 17, 2017, DHS published the International Entrepreneur Final Rule (the IE final rule) in the Federal Register at 82 FR 5238, with an original effective date of July 17, 2017. On May 29, 2018, DHS published a notice of proposed rulemaking (NPRM) proposing to remove the international entrepreneur parole program from DHS regulations and solicited public comments on the proposal.

Timetable:

Action | Date | FR Cite
NPRM | 08/31/16 | 81 FR 60129
NPRM Comment Period End | 10/17/16
Final Rule | 01/17/17 | 82 FR 5238
Final Rule Delay of Effective Date | 07/11/17 | 82 FR 31887
Final Rule Effective | 07/17/17
NPRM—Removal of International Entrepreneur Parole Program | 05/29/18 | 83 FR 24415
NPRM Comment Period End-Removal of International Entrepreneur Parole Program | 06/28/18
Final Action—Removal of International Entrepreneur Parole Program | 09/00/20

Regulatory Flexibility Analysis Required: Yes.

Agency Contact: Charles Locky Nimick, Chief, Business and Foreign Workers Division, Office of Policy and Strategy, Department of Homeland Security, U.S. Citizenship and Immigration Services, 20 Massachusetts Avenue NW, Suite 1100, Washington, DC 20529-2090, Phone: 202 272-8377, Fax: 202 272-1480.

RIN: 1615-AC04

124. U.S. Citizenship and Immigration Services Fee Schedule and Changes to Certain Other Immigration Benefit Request Requirements

E.O. 13771 Designation: Regulatory.

Legal Authority: 8 U.S.C. 1356(m)

Abstract: The Department of Homeland Security (DHS), U.S. Citizenship and Immigration Services (USCIS) conducted a FY 2019/2020 fee review for its Immigration Examinations Fee Account (IEFA), pursuant to the requirements of the Chief Financial Officers Act of 1990 (CFO Act), 31 U.S.C. 901-03 and the Immigration and Nationality Act, section 286(m), 8 U.S.C. 1356(m). The CFO Act requires each agency's chief financial officer to “review, on a biennial basis, the fees, royalties, rents, and other charges imposed by the agency for services and things of value it provides, and make recommendations on revising those charges to reflect costs incurred by it in providing those services and things of value.” As a result of the FY 2019/2020 IEFA fee review, on November 14, 2019, DHS issued a proposed rule (84 FR 62280) to adjust USCIS' fee schedule via notice and comment rulemaking. That comment period was subsequently extended on December 9, 2019 (84 FR 67243) and reopened on January 24, 2020 (85 FR 4243). DHS is considering the comments received in developing a final rule.

Timetable:

Action | Date | FR Cite
NPRM | 11/14/19 | 84 FR 62280
NPRM Comment Period Extended | 12/09/19 | 84 FR 67243
NPRM Comment Period End | 12/16/19
NPRM Comment Period Extended End | 12/30/19
NPRM Comment Period Reopened | 01/24/20 | 85 FR 4243
NPRM Comment Period Reopened End | 02/10/20
Final Action | 09/00/20

Regulatory Flexibility Analysis Required: Yes.

Agency Contact: Kika M. Scott, Chief Financial Officer, Department of Homeland Security, U.S. Citizenship and Immigration Services, Suite 4018, 20 Massachusetts Avenue NW, Washington, DC 20529, Phone: 202 272-8377, Fax: 202 272-1480.

RIN: 1615-AC18

125. Removal of 30-Day Processing Provision for Asylum Applicant-Related Form I-765 Employment Authorization Applications

E.O. 13771 Designation: Regulatory.

Legal Authority: 8 U.S.C. 1101 and 1103; Pub. L. 103-322; 8 U.S.C. 1105a; 8 U.S.C. 1151, 1153 and 1154; 8 U.S.C. 1182; 8 U.S.C. 1186a; 8 U.S.C. 1255; Pub. L. 113-4; 5 U.S.C. 801

Abstract: On September 9, 2019, DHS issued a proposed rule that would withdraw a regulatory provision stating that U.S. Citizenship and Immigration Services (USCIS) has 30 days from the date an asylum applicant files the initial Form I-765, Application for Employment Authorization (EAD application) to grant or deny that initial employment authorization application. DHS also proposed removing the provision requiring that the application for renewal must be received by USCIS 90 days prior to the expiration of the employment authorization. DHS will issue a final rule to respond to public comments and finalize removal of these provisions.

Timetable:

Action | Date | FR Cite
NPRM | 09/09/19 | 84 FR 47148
NPRM Comment Period End | 11/08/19
Final Action | 06/00/20

Regulatory Flexibility Analysis Required: Yes.

Agency Contact: Daniel Kane, Branch Chief, Service Center Operations, Department of Homeland Security, U.S. Citizenship and Immigration Services, 20 Massachusetts Avenue NW, Washington, DC 20529-2140, Phone: 202 272-8377.

RIN: 1615-AC19

126. Asylum Application, Interview, and Employment Authorization for Applicants

E.O. 13771 Designation: Regulatory.

Legal Authority: 8 U.S.C. 1158(d)(2)

Abstract: On November 14, 2019, The Department of Homeland Security (DHS) proposed regulatory amendments intended to promote greater accountability in the application process for requesting employment authorization and to deter the fraudulent filing of asylum applications for the purpose of obtaining Employment Authorization Documents (EADs). DHS is considering public comments in development of the final rule.

Timetable:

Action | Date | FR Cite
NPRM | 11/14/19 | 84 FR 62374
NPRM Comment Period End | 01/13/20
Final Action | 08/00/20

Regulatory Flexibility Analysis Required: Yes.

Agency Contact: Maureen A. Dunn, Chief, Humanitarian Affairs Division, Department of Homeland Security, U.S. Citizenship and Immigration Services, Office of Policy and Strategy, Suite 1200, 20 Massachusetts Avenue NW, Washington, DC 20529, Phone: 202 272-8377, Fax: 202 272-1480.

RIN: 1615-AC27

DEPARTMENT OF HOMELAND SECURITY (DHS)

U.S. Citizenship and Immigration Services (USCIS)

Long-Term Actions

127. Requirements for Filing Motions and Administrative Appeals

E.O. 13771 Designation: Other.

Legal Authority: 5 U.S.C. 552 and 552a; 8 U.S.C. 1101, 1103 and 1304; 6 U.S.C. 112

Abstract: The Department of Homeland Security (DHS) is proposing this rule to improve the administration of U.S. Citizenship and Immigration Services (USCIS) appeals, motions, and certifications. The proposed changes would update and restructure the regulations in order to clarify and streamline the administrative review process, increase efficiency, and reflect the establishment of DHS and its components.

Timetable:

Action | Date | FR Cite
NPRM | 06/00/21

Regulatory Flexibility Analysis Required: Yes.

Agency Contact: William K. Renwick, Jr., Branch Chief, Department of Homeland Security, U.S. Citizenship and Immigration Services, Administrative Appeals Office, 20 Massachusetts Avenue NW, Washington, DC 20529-2090, Phone: 202 272-8377, Fax: 202 272-1480.

RIN: 1615-AB98

128. EB-5 Immigrant Investor Regional Center Program

E.O. 13771 Designation: Other.

Legal Authority: 8 U.S.C. 1153(b)(5); Pub. L. 102-395, secs. 610 and 601(a); Pub. L. 107-273, sec. 11037; Pub. L. 101-649, sec. 121(a); Pub. L. 105-119, sec. 116; Pub. L. 106-396, sec. 402; Pub. L. 108-156, sec. 4; Pub. L. 112-176, sec. 1; Pub. L. 114-113, sec. 575; Pub. L. 114-53, sec. 131; Pub. L. 107-273

Abstract: The Department of Homeland Security (DHS) is considering making regulatory changes to the EB-5 Immigrant Investor Regional Center Program. DHS issued an Advance Notice of Proposed Rulemaking (ANPRM) to seek comment from the public on several topics, including: (1) The process for initially designating entities as regional centers, (2) a potential requirement for regional centers to utilize an exemplar filing process, (3) continued participation requirements for maintaining regional center designation; and (4) the process for terminating regional center designation. While DHS has gathered some information related to these topics, the ANPRM sought additional information that can help the Department make operational and security updates to the Regional Center Program while minimizing the impact of such changes on regional center operations and EB-5 investors.

Timetable:

Action | Date | FR Cite
ANPRM | 01/11/17 | 82 FR 3211
ANPRM Comment Period End | 04/11/17
NPRM | 12/00/21

Regulatory Flexibility Analysis Required: Yes.

Agency Contact: Charles Locky Nimick, Chief, Business and Foreign Workers Division, Office of Policy and Strategy, Department of Homeland Security, U.S. Citizenship and Immigration Services, 20 Massachusetts Avenue NW, Suite 1100, Washington, DC 20529-2090, Phone: 202 272-8377, Fax: 202 272-1480.

RIN: 1615-AC11

129. Electronic Processing of USCIS Immigration Benefit Requests

E.O. 13771 Designation: Deregulatory.

Legal Authority: 6 U.S.C. 112; 8 U.S.C. 1103; 44 U.S.C. 3504

Abstract: The Department of Homeland Security (DHS) will propose to: (1) Set requirements for mandatory-online submission for immigration benefit requests and explain the requirements associated with electronic processing; and (2) make changes to existing regulations to allow end-to-end digital processing.

Timetable:

Action | Date | FR Cite
NPRM | 06/00/21

Regulatory Flexibility Analysis Required: Yes.

Agency Contact: Michael Mayhew, Chief of Staff, Immigration Records and Identity Services Directorate, Department of Homeland Security, U.S. Citizenship and Immigration Services, 20 Massachusetts Avenue NW, Washington, DC 20529, Phone: 202 272-8377, Fax: 202 272-1480.

RIN: 1615-AC20

DEPARTMENT OF HOMELAND SECURITY (DHS)

U.S. Coast Guard (USCG)

Proposed Rule Stage

130. Financial Responsibility—Vessels; Superseded Pollution Funds (USCG-2017-0788)

E.O. 13771 Designation: Not subject to, not significant.

Legal Authority: 33 U.S.C. 2704; 33 U.S.C. 2716 and 2716a; 42 U.S.C. 9607 to 9609; 6 U.S.C. 552; E.O. 12580; sec. 7(b), 3 CFR, 1987; Comp., p. 193; E.O. 12777, secs. 4 and 5, 3 CFR, 1991 Comp., p. 351, as amended by E.O. 13286, sec. 89, 3; 3 CFR, 2004 Comp., p. 166, and by E.O. 13638, sec. 1, 3 CFR, 2014 Comp., p.227; Department of Homeland; Security Delegation Nos. 0170.1 and 5110, Revision 01

Abstract: The Coast Guard proposes to amend its rule on vessel financial responsibility to include tank vessels greater than 100 gross tons, to clarify and strengthen the rule's reporting requirements, to conform its rule to current practice, and to remove two superseded regulations. This rulemaking will ensure the Coast Guard has current information when there are significant changes in a vessel's operation, ownership, or evidence of financial responsibility, and reflect current best practices in the Coast Guard's management of the Certificate of Financial Responsibility Program. This rulemaking will also promote the Coast Guard's missions of maritime stewardship, maritime security, and maritime safety.

Timetable:

Action | Date | FR Cite
NPRM | 05/13/20 | 85 FR 28802
NPRM Comment Period End | 08/11/20

Regulatory Flexibility Analysis Required: Yes.

Agency Contact: Benjamin White, Project Manager, National Pollution Funds Center, Department of Homeland Security, U.S. Coast Guard, 2703 Martin Luther King Jr. Avenue SE, STOP 7605, Washington, DC 20593-7605, Phone: 202 795-6066, Email: benjamin.h.white@uscg.mil.

RIN: 1625-AC39

DEPARTMENT OF HOMELAND SECURITY (DHS)

U.S. Coast Guard (USCG)

Long-Term Actions

131. Commercial Fishing Vessels—Implementation of 2010 and 2012 Legislation

E.O. 13771 Designation: Other.

Legal Authority: 46 U.S.C. 4502 and 5103; Pub. L. 111-281

Abstract: The Coast Guard proposes to implement those requirements of 2010 and 2012 legislation that pertain to uninspected commercial fishing industry vessels and that took effect upon enactment of the legislation but that, to be implemented, require amendments to Coast Guard regulations affecting those vessels. The applicability of the regulations is being changed, and new requirements are being added to safety training, equipment, vessel examinations, vessel safety standards, the documentation of maintenance, and the termination of unsafe operations. This rulemaking promotes the Coast Guard's maritime safety mission.

Timetable:

Action | Date | FR Cite
NPRM | 06/21/16 | 81 FR 40437
NPRM Comment Period Extended | 08/15/16 | 81 FR 53986
NPRM Comment Period End | 10/19/16
NPRM Comment Period Extended End | 12/18/16
Final Rule | To Be Determined

Regulatory Flexibility Analysis Required: Yes.

Agency Contact: Joseph Myers, Project Manager, Department of Homeland Security, U.S. Coast Guard, 2703 Martin Luther King Jr. Avenue SE, STOP 7501, Washington, DC 20593-7501, Phone: 202 372-1249, Email: joseph.d.myers@uscg.mil.

RIN: 1625-AB85

DEPARTMENT OF HOMELAND SECURITY (DHS)

U.S. Customs and Border Protection (USCBP)

Long-Term Actions

132. Importer Security Filing and Additional Carrier Requirements (Section 610 Review)

E.O. 13771 Designation: Regulatory.

Legal Authority: Pub. L. 109-347, sec. 203; 5 U.S.C. 301; 19 U.S.C. 66; 19 U.S.C. 1431; 19 U.S.C. 1433 and 1434; 19 U.S.C. 1624; 19 U.S.C. 2071 (note); 46 U.S.C. 60105

Abstract: This final rule implements the provisions of section 203 of the Security and Accountability for Every Port Act of 2006. On November 25, 2008, Customs and Border Protection (CBP) published an interim final rule (CBP Dec. 08-46) in the Federal Register (73 FR 71730), that finalized most of the provisions proposed in the Notice of Proposed Rulemaking. It requires carrier and importers to provide to CBP, via a CBP approved electronic data interchange system, certain advance information pertaining to cargo brought into the United States by vessel to enable CBP to identify high-risk shipments to prevent smuggling and ensure cargo safety and security. The interim final rule did not finalize six data elements that were identified as areas of potential concern for industry during the rulemaking process and, for which, CBP provided some type of flexibility for compliance with those data elements. CBP solicited public comment on these six data elements and also invited comments on the revised Regulatory Assessment and Final Regulatory Flexibility Analysis. (See 73 FR 71782-85 for regulatory text and 73 CFR 71733-34 for general discussion.) The remaining requirements of the rule were adopted as final.

Timetable:

Action | Date | FR Cite
NPRM | 01/02/08 | 73 FR 90
NPRM Comment Period End | 03/03/08
NPRM Comment Period Extended | 02/01/08 | 73 FR 6061
NPRM Comment Period End | 03/18/08
Interim Final Rule | 11/25/08 | 73 FR 71730
Interim Final Rule Effective | 01/26/09
Interim Final Rule Comment Period End | 06/01/09
Correction | 07/14/09 | 74 FR 33920
Correction | 12/24/09 | 74 FR 68376
Final Action | To Be Determined

Regulatory Flexibility Analysis Required: Yes.

Agency Contact: Brian Sale, Branch Chief, Manifest & Conveyance Security Division, Cargo & Conveyance, Office of Field Operation, Department of Homeland Security, U.S. Customs and Border Protection, 1300 Pennsylvania Avenue NW, Washington, DC 20229, Phone: 202 325-3338, Email: brian.a.sale@cbp.dhs.gov.

RIN: 1651-AA70

133. Implementation of the Guam-CNMI Visa Waiver Program (Section 610 Review)

E.O. 13771 Designation: Fully or Partially Exempt.

Legal Authority: Pub. L. 110-229, sec. 702

Abstract: The interim final rule amends Department of Homeland Security (DHS) regulations to implement section 702 of the Consolidated Natural Resources Act of 2008 (CNRA). This law extends the immigration laws of the United States to the Commonwealth of the Northern Mariana Islands (CNMI) and provides for a joint visa waiver program for travel to Guam and the CNMI. This rule implements section 702 of the CNRA by amending the regulations to replace the current Guam Visa Waiver Program with a new Guam-CNMI Visa Waiver Program. The amended regulations set forth the requirements for nonimmigrant visitors who seek admission for business or pleasure and solely for entry into and stay on Guam or the CNMI without a visa. This rule also establishes six ports of entry in the CNMI for purposes of administering and enforcing the Guam-CNMI Visa Waiver Program. Section 702 of the Consolidated Natural Resources Act of 2008 (CNRA), subject to a transition period, extends the immigration laws of the United States to the Commonwealth of the Northern Mariana Islands (CNMI) and provides for a visa waiver program for travel to Guam and/or the CNMI. On January 16, 2009, the Department of Homeland Security (DHS), Customs and Border Protection (CBP), issued an interim final rule in the Federal Register replacing the then-existing Guam Visa Waiver Program with the Guam-CNMI Visa Waiver Program and setting forth the requirements for nonimmigrant visitors seeking admission into Guam and/or the CNMI under the Guam-CNMI Visa Waiver Program. As of November 28, 2009, the Guam-CNMI Visa Waiver Program is operational. This program allows nonimmigrant visitors from eligible countries to seek admission for business or pleasure for entry into Guam and/or the CNMI without a visa for a period of authorized stay not to exceed 45 days. This rulemaking would finalize the January 2009 interim final rule.

Timetable:

Action | Date | FR Cite
Interim Final Rule | 01/16/09 | 74 FR 2824
Interim Final Rule Effective | 01/16/09
Interim Final Rule Comment Period End | 03/17/09
Technical Amendment; Change of Implementation Date | 05/28/09 | 74 FR 25387
Final Action | 06/00/21

Regulatory Flexibility Analysis Required: No.

Agency Contact: Neyda Yejo, Program Manager, Electronic System for Travel Authorization, Office of Field Operations, Department of Homeland Security, U.S. Customs and Border Protection, 1300 Pennsylvania Avenue NW, Washington, DC 20229, Phone: 202 344-2373, Email: neyda.i.yejo@cbp.dhs.gov.

RIN: 1651-AA77

DEPARTMENT OF HOMELAND SECURITY (DHS)

Transportation Security Administration (TSA)

Completed Actions

134. Security Training for Surface Transportation Employees

E.O. 13771 Designation: Other.

Legal Authority: 49 U.S.C. 114; Pub. L. 110-53, secs. 1405, 1408, 1501, 1512, 1517, 1531, and 1534

Abstract: The 9/11 Act requires security training for employees of higher-risk freight railroad carriers, public transportation agencies (including rail mass transit and bus systems), passenger railroad carriers, and over-the-road bus (OTRB) companies. This final rule implements the regulatory mandate. Owner/operators of these higher-risk railroads, systems, and companies will be required to train employees performing security-sensitive functions, using a curriculum addressing preparedness and how to observe, assess, and respond to terrorist-related threats and/or incidents. As part of this rulemaking, the Transportation Security Administration (TSA) is expanding its current requirements for rail security coordinators and reporting of significant security concerns (currently limited to freight railroads, passenger railroads, and the rail operations of public transportation systems) to include the bus components of higher-risk public transportation systems and higher-risk OTRB companies. TSA is also adding a definition for Transportation Security-Sensitive Materials (TSSM). Other provisions are being amended or added, as necessary, to implement these additional requirements.

Timetable:

Action | Date | FR Cite
Notice; Request for Comment | 06/14/13 | 78 FR 35945
Notice; Comment Period End | 07/15/13
NPRM | 12/16/16 | 81 FR 91336
NPRM Comment Period End | 03/16/17
Final Rule | 03/23/20 | 85 FR 16456
Final Rule Effective | 06/22/20

Regulatory Flexibility Analysis Required: Yes.

Agency Contact: Chandru (Jack) Kalro, Deputy Director, Surface Division, Department of Homeland Security, Transportation Security Administration, Policy, Plans, and Engagement, 601 South 12th Street, Arlington, VA 20598-6028, Phone: 571 227-1145, Email: surfacefrontoffice@tsa.dhs.gov.

Alex Moscoso, Chief Economist, Economic Analysis Branch—Coordination & Analysis Division, Department of Homeland Security, Transportation Security Administration, Policy, Plans, and Engagement, 601 South 12th Street, Arlington, VA 20598-6028, Phone: 571 227-5839, Email: alex.moscoso@tsa.dhs.gov.

Traci Klemm, Assistant Chief Counsel, Regulations and Security Standards, Department of Homeland Security, Transportation Security Administration, Chief Counsel's Office, 601 South 12th Street, Arlington, VA 20598-6002, Phone: 571 227-3596, Email: traci.klemm@tsa.dhs.gov.

RIN: 1652-AA55

DEPARTMENT OF HOMELAND SECURITY (DHS)

U.S. Immigration and Customs Enforcement (USICE)

Proposed Rule Stage

135. Visa Security Program Fee

E.O. 13771 Designation: Other.

Legal Authority: 8 U.S.C. 1356

Abstract: ICE seeks to enable the expansion of the Visa Security Program (VSP) by proposing to move it to a user-fee funded model (as opposed to relying on appropriations). The VSP leverages resources in the National Capital Region (NCR) and at U.S. diplomatic posts overseas to vet and screen visa applicants; identifies and prevents the travel of those who constitute potential national security and/or public safety threats; and launches investigations into criminal and/or terrorist affiliated networks operating in the U.S. and abroad. The fees collected as a result of this rule would fund an expansion of the VSP, enabling ICE to extend visa security screening and vetting operations and investigative efforts to more visa-issuing posts overseas, and in turn, enhance the U.S. government's ability to prevent travel to the United States by illicit actors.

Timetable:

Action | Date | FR Cite
NPRM | 12/00/20

Regulatory Flexibility Analysis Required: Yes.

Agency Contact: Sharon Hageman, Acting Regulations Unit Chief/Chief Economist, Department of Homeland Security, U.S. Immigration and Customs Enforcement, 500 12th Street SW, Mail Stop 5006, Washington, DC 20536, Phone: 202 732-3462, Email: sharon.hageman@ice.dhs.gov.

RIN: 1653-AA77

136. Establishing a Fixed Time Period of Admission and an Extension of Stay Procedure for Nonimmigrant Academic Students, Exchange Visitors, and Representatives of Foreign Information Media

E.O. 13771 Designation: Other.

Legal Authority: 8 U.S.C. 1101; 8 U.S.C. 1103; 8 U.S.C. 1182 and 1184

Abstract: U.S. Immigration and Customs Enforcement (ICE) will propose to modify the period of authorized stay for certain categories of nonimmigrants traveling to the United States by eliminating the availability of “duration of status” and by providing a maximum period of authorized stay with options for extensions for each applicable visa category.

Timetable:

Action | Date | FR Cite
NPRM | 07/00/20

Regulatory Flexibility Analysis Required: Yes.

Agency Contact: Sharon Hageman, Acting Regulations Unit Chief/Chief Economist, Department of Homeland Security, U.S. Immigration and Customs Enforcement, 500 12th Street SW, Mail Stop 5006, Washington, DC 20536, Phone: 202 732-3462, Email: sharon.hageman@ice.dhs.gov.

RIN: 1653-AA78

137. • Adjusting Program Fees for the Student and Exchange Visitor Program

E.O. 13771 Designation: Other.

Legal Authority: 8 U.S.C. 1372(e); 8 U.S.C. 1372(g); 8 U.S.C. 1356(m); 8 U.S.C. 1356(n)

Abstract: ICE will propose a regulation to adjust fees that the Student and Exchange Visitor Program (SEVP) charges individuals and organizations to improve compliance and enforcement related to nonimmigrant students. ICE has determined that increasing the fees is necessary to support increased compliance including worksite enforcement, investigating fraud related to nonimmigrant employment, and enforcement regarding nonimmigrant students who violate their status. The SEVP fee schedule was last adjusted in a rule published on May 23, 2019.

Timetable:

Action | Date | FR Cite
NPRM | 11/00/20

Regulatory Flexibility Analysis Required: Yes.

Agency Contact: Sharon Hageman, Acting Regulations Unit Chief/Chief Economist, Department of Homeland Security, U.S. Immigration and Customs Enforcement, 500 12th Street SW, Mail Stop 5006, Washington, DC 20536, Phone: 202 732-3462, Email: sharon.hageman@ice.dhs.gov.

RIN: 1653-AA81

DEPARTMENT OF HOMELAND SECURITY (DHS)

U.S. Immigration and Customs Enforcement (USICE)

Final Rule Stage

138. Procedures and Standards for Declining Surety Immigration Bonds and Administrative Appeal Requirement for Breaches

E.O. 13771 Designation: Not subject to, not significant.

Legal Authority: 8 U.S.C. 1103

Abstract: U.S. Immigration and Customs Enforcement (ICE) is establishing standards and procedures ICE will follow before making a determination to stop accepting immigration bonds posted by a surety company that has been certified to issue bonds by the Department of the Treasury when the company does not cure deficient performance. Treasury administers the Federal corporate surety program and, in its current regulations, allows agencies to prescribe “for cause” standards and procedures for declining to accept new bonds from Treasury-certified sureties. ICE will also require surety companies seeking to overturn a breach determination to file an administrative appeal raising all legal and factual defenses.

Timetable:

Action | Date | FR Cite
NPRM | 06/05/18 | 83 FR 25951
NPRM Comment Period End | 08/06/18
Final Action | 07/00/20

Regulatory Flexibility Analysis Required: Yes.

Agency Contact: Sharon Hageman, Acting Regulations Unit Chief/Chief Economist, Department of Homeland Security, U.S. Immigration and Customs Enforcement, 500 12th Street SW, Mail Stop 5006, Washington, DC 20536, Phone: 202 732-3462, Email: sharon.hageman@ice.dhs.gov.

RIN: 1653-AA67

DEPARTMENT OF HOMELAND SECURITY (DHS)

Cybersecurity and Infrastructure Security Agency (CISA)

Long-Term Actions

139. Ammonium Nitrate Security Program

E.O. 13771 Designation: Other.

Legal Authority: 6 U.S.C. 488 et seq.

Abstract: This rulemaking will implement the December 2007 amendment to the Homeland Security Act titled “Secure Handling of Ammonium Nitrate.” The amendment requires the Department of Homeland Security to “regulate the sale and transfer of ammonium nitrate by an ammonium nitrate facility . . . to prevent the misappropriation or use of ammonium nitrate in an act of terrorism.” In June 2019, DHS published a notice announcing the availability of a redacted version of a technical report titled Ammonium Nitrate Security Program Technical Assessment. Sandia National Laboratories developed the report. DHS requested public comments on the report and its application to the proposed definition of ammonium nitrate. DHS will review and consider all the comments received and then determine the next appropriate steps for this rulemaking.

Timetable:

Action | Date | FR Cite
ANPRM | 10/29/08 | 73 FR 64280
ANPRM Correction | 11/05/08 | 73 FR 65783
ANPRM Comment Period End | 12/29/08
NPRM | 08/03/11 | 76 FR 46908
Notice of Public Meetings | 10/07/11 | 76 FR 62311
Notice of Public Meetings | 11/14/11 | 76 FR 70366
NPRM Comment Period End | 12/01/11
Notice of Availability | 06/03/19 | 84 FR 25495
Notice of Availability Comment Period End | 09/03/19
Next Action Undetermined

Regulatory Flexibility Analysis Required: Yes.

Agency Contact: Lona Saccomando, Chemical Facility of Interest (CFOI) Coordinator, Infrastructure Security Compliance Division, Department of Homeland Security, Cybersecurity and Infrastructure Security Agency, 245 Murray Lane SW, Mail Stop 0610, Arlington, VA 20528-0610, Phone: 703 603-4868, Email: lona.saccomando@cisa.dhs.gov.

RIN: 1670-AA00

140. Chemical Facility Anti-Terrorism Standards (CFATS)

E.O. 13771 Designation: Other.

Legal Authority: 6 U.S.C. 621 to 629

Abstract: The Department of Homeland Security (DHS) previously invited public comment on an advance notice of proposed rulemaking (ANPRM) for potential revisions to the Chemical Facility Anti-Terrorism Standards (CFATS) regulations. The ANPRM provided an opportunity for the public to provide recommendations for possible program changes. DHS is reviewing the public comments received in response to the ANPRM, after which DHS intends to publish a Notice of Proposed Rulemaking. In addition, DHS intends to publish a notice announcing the availability of a retrospective analysis of the data, assumptions, and methodology that were used to support the 2007 CFATS interim final rule. The intent of the retrospective analysis is to determine the most accurate assessment of the costs and burdens of the program and to update or confirm previous cost estimates based on observed data from the operation of the CFATS program since 2007.

Timetable:

Action | Date | FR Cite
ANPRM | 08/18/14 | 79 FR 48693
ANPRM Comment Period End | 10/17/14
NPRM | To Be Determined

Regulatory Flexibility Analysis Required: Yes.

Agency Contact: Lona Saccomando, Chemical Facility of Interest (CFOI) Coordinator, Infrastructure Security Compliance Division, Department of Homeland Security, Cybersecurity and Infrastructure Security Agency, 245 Murray Lane SW, Mail Stop 0610, Arlington, VA 20528-0610, Phone: 703 603-4868, Email: lona.saccomando@cisa.dhs.gov.

RIN: 1670-AA01

[FR Doc. 2020-16757 Filed 8-25-20; 8:45 am]

BILLING CODE 9110-9B-P